DEPARTMENT OF ENERGY

Federal Energy Regulatory Commission

[Project No. 2153-012 California]

United Water Conservation District; Notice of Availability of Environmental Assessment

January 23, 2007.

In accordance with the National Environmental Policy Act of 1969, as amended, and Federal Energy Regulatory Commission (Commission or FERC) regulations (18 CFR Part 380), Commission staff reviewed the application for a minor license for the Santa Felicia Hydroelectric Project and prepared this final environmental assessment (EA). The project is located on Piru Creek in Ventura County, California. The project occupies 174.5 acres of U.S. land that is administered by the U.S. Department of Agriculture, Forest Service (Forest Service) in the Los Padres and Angeles National Forests.

Specifically, the project licensee, United Water Conservation District, requested Commission approval of the Santa Felicia Project for hydroelectric generation purposes. In the final EA, Commission staff analyze the probable environmental effects of relicensing the project and conclude that approval of the project, with appropriate staff-recommended environmental measures, would not constitute a major federal action significantly affecting the quality of the human environment.

Copies of the final EA are available for review in Public Reference Room 2-A of the Commission's offices at 888 First Street, NE., Washington, DC. The EA also may be viewed on the Commission's Internet Web site (www.ferc.gov) using the “eLibrary” link. Additional information about the project is available from the Commission's Office of External Affairs at (202) 502-6088, or on the Commission's Web site using the eLibrary link. For assistance with eLibrary, contact FERCOnlineSupport@ferc.gov or call toll-free at (866) 208-3676; for TTY contact (202) 502-8659.

Magalie R. Salas,
Secretary.

[FR Doc. E7-1365 Filed 1-29-07; 8:45 am]

BILLING CODE 6717-01-P